DEPARTMENT OF COMMERCE

National Oceanic and Atmospheric Administration

Proposed Information Collection; Comment Request; Marianas Trench Marine National Monument Knowledge and Attitudes Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 9, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Dr. Stewart Allen, (808) 944-2186 or Stewart.Allen@noaa.gov.

SUPPLEMENTARY INFORMATION:

I. Abstract

President George W. Bush established the Marianas Trench Marine National Monument (Monument) on January 6, 2009, by Presidential Proclamation 8335. The monument includes approximately 95,216 square miles within three units in the Mariana Archipelago. The Mariana Trench Unit is almost 1,100 miles long and 44 miles wide and includes only the submerged lands. The Volcanic Unit consists of submerged lands around 21 undersea mud volcanoes and thermal vents along the Mariana Arc. The Islands Unit includes only the waters and submerged lands of the three northernmost Mariana Islands: Farallon de Pajaros or Uracas; Maug; and Asuncion, below the mean low water line. Within the Islands Unit of the monument, commercial fishing is prohibited but sustenance, recreational, and traditional indigenous fishing can be allowed on a sustainable basis.

The Secretary of the Interior has management responsibility for the monument, in consultation with the Secretary of Commerce who, through the National Oceanic and Atmospheric Administration (NOAA), has primary responsibility for managing fishery-related activities. These agencies are required to consult with the Secretary of Defense, the United States (U.S.) Coast Guard, and the Government of the Commonwealth of the Northern Mariana Islands in managing the monument. A subsequent Secretary of the Interior action on January 16, 2009, delegated management responsibilities for the monument to the Fish and Wildlife Service through, and placed two of the units (the Mariana Trench and Volcanic Units) within, the National Wildlife Refuge System as the Mariana Trench and Mariana Arc of Fire National Wildlife Refuges.

Management activities are anticipated to include public education programs and public outreach regarding the coral reef ecosystem and related marine resources and species of the monument and efforts to conserve them; traditional access by indigenous persons, for culturally significant subsistence, cultural and religious uses within the monument; a program to assess and promote monument-related scientific exploration and research, tourism, and recreational and economic activities and opportunities in the Commonwealth of the Northern Mariana Islands (CNMI); a process to consider requests for recreational fishing permits in certain areas of the Islands Unit, based on an analysis of the likely effects of such fishing on the marine ecosystems of these areas, sound professional judgment that such fishing will not materially interfere with or detract from the fulfillment of the purposes of this proclamation, and the extent to which such recreational fishing shall be managed as a sustainable activity; programs for monitoring and enforcement necessary to ensure that scientific exploration and research, tourism, and recreational and commercial activities do not degrade the monument's coral reef ecosystem or related marine resources or species or diminish the monument's natural character.

The Human Dimensions Research Program at NOAA Fisheries Pacific Islands Fisheries Science Center is initiating a survey to support development of a management plan for the Monument. Designation of the Monument was accompanied by social debate over the merits of designation, the economic benefits, increased Federal management in the archipelago, the impacts to fishermen and fishing communities, and other effects. Now that the Monument has been established and management planning is beginning, there is a need for research to define CNMI and Guam residents' management preferences and perceptions of effects so this information is available to managers as they develop and begin to implement the plan. The survey contains questions on awareness, knowledge, and attitudes regarding the Monument, preferences for management and scientific research, and level of interest in becoming involved in Monument management and outreach activities. Additional questions include experiences with and attitudes toward existing uses of coastal and marine resources, to provide a context for interpreting responses regarding the Monument.

II. Method of Collection

Data will be collected through a telephone survey of a random sample of adult members of Guam and CNMI households.

III. Data

OMB Control Number: None.

Form Number: None.

Type of Review: Regular submission.

Affected Public: Individuals or households.

Estimated Number of Respondents: 800.

Estimated Time per Response: 20 minutes.

Estimated Total Annual Burden Hours: 267.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 3, 2011.
Gwellnar Banks,
Management Analyst, Office of the Chief Information Officer.

[FR Doc. 2011-5150 Filed 3-7-11; 8:45 am]

BILLING CODE 3510-22-P